DEPARTMENT OF DEFENSE

Department of the Army

[Docket ID: USA-2009-0033]

Privacy Act of 1974; System of Records

AGENCY: Department of the Army, DoD.

ACTION: Notice to Add a System of Records.

SUMMARY: The Department of the Army is proposing to add a system of records to its existing inventory of records systems subject to the Privacy Act of 1974, (5 U.S.C. 552a), as amended.

DATES: The proposed action will be effective on December 31, 2009 unless comments are received that would result in a contrary determination.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on November 24, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: November 24, 2009.
Patricia L. Toppings,
OSD Federal Register Liaison Officer, Department of Defense.

A0040-5b DASG

System name:

Army Behavioral Health Integrated Data Environment (ABHIDE).

System location:

U.S. Army Center for Health Promotion and Preventive Medicine, 5158 Blackhawk Road, Aberdeen Proving Ground, Maryland 21010-5403.

Categories of individuals covered by the system:

Active duty Army including National Guard and Reserves, and retired Army personnel.

Categories of records in the system:

Personal Information: Patient or individual's name, rank/grade, military status, address, date of birth, color, height, weight, place of birth, Social Security Number (SSN), duty stations, employment and job related information and history; deployment information, high school graduation date and location; highest level of education; other education, training and school information including courses and training completion; drug and alcohol screening results, treatment information and progress reports; casualty information including date and location of death and manner of death. Benefits eligibility, enrollment, designations and status information, appointment dates and locations, referrals, inpatient/outpatient care dates, diagnoses, medications ordered and received.

Legal Information: Criminal investigations, date and location of incident, offense committed, Uniform Code of Military Justice Actions, codes for the type of crime, location of investigation, year and date of offense, names and personal identifiers of persons who have been subjects of electronic surveillance, suspects, subjects and victims of crimes, report number which allows access to records noted above; and domestic violence actions including type and date of incident. Exemptions claimed for the system: Investigative material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Note: Records of identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974 in regard to accessibility of such records except to the individual to whom the record pertains. This statute takes precedence over the Privacy Act of 1974 to the extent that disclosure is more limited. However, access to the record by the individual to whom the record pertains is governed by the Privacy Act.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice. This information will not be used for benefit determination or access to classified information, retention and other action to or about the individual.

Authority for maintenance of the system:

10 U.S.C. 3013, Secretary of the Army; DoD Instruction 6490.2E, Comprehensive Health Surveillance; DoD Instruction 6015.23, Delivery of Healthcare at Military Treatment Facilities (MTFs); DoD Instruction 1300.18, Personnel Casualty Matters, Policies, and Procedures; Army Regulation 40-66, Medical Record Administration and Health Care Documentation; Army Regulation 195-2, Criminal Investigation Activities; Army Regulation 600-85, Army Substance Abuse Program; Army Regulation 600-8-104, Military Personnel Information Management/Records; Army Regulation 608-18, The Family Advocacy Program; 42 U.S.C. 290dd-2, Substance Abuse and Mental Health Services; and E.O. 9397 (SSN), as amended.

Purpose(s):

This database will provide a standardized, enterprise-wide, information management and technology capability to integrate information from nonrelated/dispersed databases into a comprehensive health surveillance database to support mental, behavioral, social health and public health activities. Mental health can be defined as a state of well-being and self-awareness that allows the individual to work or otherwise contribute to his or her community, to enjoy life, and to cope with stress (sometimes termed psychological resilience). Behavioral health (BH) is a general concept that is often used to describe individual or societal behaviors and their relationship to physical, emotional, and spiritual health. BH is usually characterized by the absence of self-destructive behaviors, such as substance abuse, or suicidal actions. Social health overlaps with both of the other areas, but can be thought of in terms of relationships among individuals and/or communities. The ABHIDE database and its capabilities support enterprise-wide, population-based, public health surveillance (including data collection, analysis/interpretation, and reporting to appropriate authorities for public health action). Specific uses include establishing event-specific registries, such as a suicide registry, identifying risk factors, developing mitigation strategies, evaluating intervention and prevention programs, and prospectively monitoring Army communities with respect to their mental, behavioral, and social health. Other data collected in this system will include adverse behavioral health and social health outcomes, e.g., drug and/or alcohol abuse, suicidal behavior (suicides, attempts, ideations), etc. across all phases of Army service. Data from the ABHIDE are being used to analyze Army populations and will not be used to determine Soldier fitness for duty or other personnel actions, such as assignments, entitlements or benefits.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Under the need-to-know provision cited in 5 U.S.C. 552a(b) to the Chief of Staff Army, Vice Chief of Staff Army (VCSA), The Surgeon General (TSG), U.S. Army Medical Command (MEDCOM)/Office of The Surgeon General (OTSG). Information disclosed will be in response to senior leader requests pertaining to the surveillance and investigation of factors that may contribute to behavioral problems in populations (as opposed to individuals), with a special emphasis on suicides, suicidal behaviors and associated behavioral health outcomes.

To legitimate, appropriately credentialed, researchers in support of authorized studies. These researchers may be internal, e.g., Army Science Board, or external, e.g., National Institute of Mental Health, academic institutes, RAND, GAO, etc. Some studies will be of short duration and small scope (such as a focused epidemiological consultation at an individual installation) while others will be long-term formal research studies with Institutional Review Board oversight to ensure all required safeguards with respect to human subject protection, privacy, and HIPAA.

Policies and practices for storing, retrieving, accessing, retaining, and disposing of records in the system:

Storage:

Electronic storage media.

Retrievability:

By client or member's surname or Social Security Number (SSN).

Safeguards:

ABHIDE data is maintained in a controlled government facility. Physical entry is restricted by the use of locks, guards, and is accessible only to authorized personnel with a need-to-know. Access to personal data is limited to person(s) responsible for maintaining and servicing the ABHIDE data in performance of their official duties and who are properly trained, screened and cleared for a need-to-know. Access to personal data is further restricted by the use of Common Access Card (CAC) and/or strong password, which are changed periodically according to DoD security policy.

Retention and disposal:

Disposition pending until the National Archives and Records Administration approves retention and disposal schedule, records will be treated as permanent.

System manager(s) and address:

Commander, U.S. Army Center for Health Promotion and Preventive Medicine, 5158 Blackhawk Road, Aberdeen Proving Ground, Maryland 21010-5403.

Notification procedure:

Individuals seeking to determine whether information about themselves is contained in this system of records should address written inquiries to the Commander, U.S. Army Center for Health Promotion and Preventive Medicine, 5158 Blackhawk Road, Aberdeen Proving Ground, Maryland 21010-5403.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves is contained in this system of records should address written inquiries to Commander, U.S. Army Center for Health Promotion and Preventive Medicine, 5158 Blackhawk Road, Aberdeen Proving Ground, Maryland 21010-5403.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, and for contesting contents and appealing initial agency determinations are contained in Army Regulation 340-21; 32 CFR part 505; or may be obtained from the system manager.

Record source categories:

Data contained in this system is collected from the individual Army offices and DoD databases.

Exemptions claimed for the system:

Investigative material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Records maintained solely for statistical research or program evaluation purposes and which are not used to make decisions on the rights, benefits, or entitlement of an individual except for census records which may be disclosed under 13 U.S.C. 8, may be exempt pursuant to 5 U.S.C. 552a(k)(4).

An exemption rule for these exemptions will be promulgated in accordance with requirements of 5 U.S.C. 553(b)(1), (2), and (3), (c) and (e) and published in 32 CFR part 505. For additional information contact the system manager.

[FR Doc. E9-28592 Filed 11-30-09; 8:45 am]

BILLING CODE 5001-06-P